DEPARTMENT OF HEALTH AND HUMAN SERVICES

National Institutes of Health

Notice of Intent To Prepare an Environmental Impact Statement and Notice of Scoping Meeting

SUMMARY: In accordance with the National Environmental Policy Act, 42 U.S.C. 4321-4347, the National Institutes of Health (NIH) is issuing this notice to advise the public that an environmental impact statement will be prepared for the Assure/Expand Chilled Water Capacity project located on the National Institutes of Health, Bethesda Campus, Bethesda, Maryland.

DATES: The Scoping Meeting is planned for 6:00 p.m., formal presentation to begin at 7:00 p.m., on Wednesday September 24, 2014. Scoping comments must be postmarked no later than October 18, 2014 to ensure they are considered.

ADDRESSES: The Scoping Meeting will be held on The National Institutes of Health Bethesda Campus, Building 50, Room 1227/1233, Bethesda, Maryland. All comments and questions on the Scoping Meeting and Environmental Impact Statement should be directed to Valerie Nottingham, Deputy Director, Division of Environmental Protection, Office of Research Facilities, NIH, B13/2S11, 9000 Rockville Pike, Bethesda, Maryland 20892, telephone 301-496-7775; fax 301-480-0204; or email <nihnepa@mail.nih.gov>.

FOR FURTHER INFORMATION CONTACT: Valerie Nottingham, Deputy Director, Division of Environmental Protection, Office of Research Facilities, NIH, B13/2S11, 9000 Rockville Pike, Bethesda, Maryland 20892, telephone 301-496-7775; fax 301-480-0204; or email <nihnepa@mail.nih.gov>.

SUPPLEMENTARY INFORMATION: The NIH's mission is to seek fundamental knowledge about the nature and behavior of living systems and the application of that knowledge to enhance health, lengthen life, and reduce illness and disability. In order to fulfill and uphold this mission the infrastructure of the NIH Bethesda Campus must be able to support the NIH's biomedical research programs.

Chilled water is a critical utility for the Bethesda Campus. The campus chilled water demand has exceeded the design capacity several times during the previous years. Expansion of the chilled water capacity is necessary.

The NIH has also become increasingly concerned about the vulnerability of the local water utility system, and the risk of reliably delivering water to the NIH Bethesda Campus infrastructure. A reliable water supply is vital to the NIH mission. The NIH proposes to address these concerns by construction of water storage structures to expand the Bethesda Campus chilled water capacity and to assure the availability of chilled water and potable water during a water emergency. In addition, NIH desires to improve sustainability, energy conservation, and to reduce the operating cost on the campus.

In accordance with 40 CFR 1500-1508 and DHHS environmental procedures, NIH will prepare an Environmental Impact Statement (EIS) for the proposed project. The EIS will evaluate the impacts of the alternatives should development occur as proposed. Among the items the EIS will examine are the implications of the project on community infrastructure, including, but not limited to, utilities, storm water management, traffic and transportation, and other public services. To ensure that the public is afforded the greatest opportunity to participate in the planning and environmental review process, NIH is inviting oral and written comments on the proposed project and related environmental issues.

The NIH will be sponsoring a public Scoping Meeting to provide individuals an opportunity to share their ideas, including recommended alternatives and environmental issues the EIS should consider. All interested parties are encouraged to attend. NIH has established a 45-day public comment period for the scoping process.

Dated: August 21, 2014.
Daniel G. Wheeland,
Director, Office of Research Facilities Development and Operations, National Institutes of Health.

[FR Doc. 2014-20489 Filed 8-27-14; 8:45 am]

BILLING CODE 4140-01-P